DEPARTMENT OF HEALTH AND HUMAN SERVICES

Centers for Disease Control and Prevention

[30Day-04-0Z]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Accommodation of Noise-Exposed, Hearing-Impaired Workers—New—National Institute for Occupational Safety and Health (NIOSH), Centers for Disease Control and Prevention (CDC).

Background

CDC, National Institute for Occupational Safety and Health's mission is to promote safety and health at work for all people through research and prevention. This study will evaluate the effectiveness of an evaluation and intervention protocol that can be used to accommodate the special needs of noise-exposed, hearing-impaired workers so that they can continue to perform their jobs safely while preventing additional hearing loss. Three General Motors (GM) manufacturing plants have agreed to participate in the field-testing phase of this project as part of the Memorandum of Understanding between NIOSH, the General Motors Corporation and the International Union, United Automotive, Aerospace and Agricultural Implement Workers of America (UAW) which was signed on October 23, 2000. Beginning in 2002 and continuing into 2003, the field study proposal was developed in consultation with representatives from GM and the UAW from each of the three plants. The field study is scheduled to begin during 2004 and to conclude during 2005.

One hundred noise-exposed, hearing-impaired workers will be enrolled in the study. Participants will complete the necessary release of information forms, receive a clinical hearing evaluation and case history interview by a certified audiologist to identify the type of hearing protection most appropriate for them, and be provided with this protector for use in their actual job. As part of the impact and evaluation component of this project, each study participant will fill out a 36-item pre-intervention Hearing Protection Device (HPD) Questionnaire at the time he or she enrolls in the study. The HPD Questionnaire is an expansion of a previously approved HPD questionnaire (OMB No. 0920-0552) which was developed in 1999 by NIOSH researchers. The post-intervention HPD Questionnaire will be mailed to each participant along with the 7-item Post-Intervention Questionnaire following a one-year trial with the study HPD. NIOSH researchers will use this information to assess the success of the evaluation and HPD selection protocol, and make recommendations to hearing health professionals and hearing conservation program managers, regarding the auditory management of noise-exposed, hearing-impaired workers. This request is for 2 years. The estimated annualized burden is 88 hours; there are no costs to respondents.

Annualized Burden Table
Respondents | Number of respondents | Number of responses per respondents | Average burden per response (in hrs.)
Request and Authorization for Release of Information from GM | 50 | 1 | 5/60
Request and Authorization for Release of Information from Clinic | 50 | 1 | 5/60
Contact Information Card | 50 | 1 | 2/60
Pre-Intervention HPD Questionnaire | 50 | 1 | 15/60
Post-Intervention HPD Questionnaire | 50 | 1 | 15/60
Case History Questionnaire | 50 | 1 | 10/60
Telephone Follow-Up Call | 50 | 6 | 7/60
Post-Intervention Questionnaire | 50 | 1 | 10/60

Dated: July 19, 2004.
Alvin Hall,
Director, Management Analysis and Services Office, Centers for Disease Control and Prevention.

[FR Doc. 04-16911 Filed 7-23-04; 8:45 am]

BILLING CODE 4163-18-P